DEPARTMENT OF ENERGY

Federal Energy Regulatory Commission

[Project No. 516, South Carolina]

South Carolina Electric & Gas Company; Notice of Availability of Draft Environmental Assessment

June 28, 2002.

In accordance with the National Environmental Policy Act of 1969 and the Federal Energy Regulatory Commission's (Commission) regulations, 18 CFR part 380 (Order No. 486, 52 FR 47897), the Office of Energy Projects has prepared a Draft Environmental Assessment (DEA) for the Saluda Dam Seismic Remediation Project. The Saluda Dam is a part of the Saluda Project (FERC No. 516) and is located on the Saluda River in Lexington, Richland, Newberry, and Saluda counties, South Carolina.

The DEA contains the staff's analysis of the potential environmental impacts of the dam remediation project and contains measures to minimize those impacts. The DEA concludes that the project, with recommended mitigation measures, would not constitute a major federal action that would significantly affect the quality of the human environment.

A copy of the DEA is on file with the Commission and is available for public inspection. The DEA may also be viewed on the Web at http://www.ferc.gov using the “RIMS” link—select “Docket #” and follow the instructions (call 202-208-2222 for assistance), or at http://www.ferc.gov/hydro/docs/saludaea.pdf.

Any comments must be filed by July 15, 2002 and should be addressed to Magalie R. Salas, Secretary, Federal Energy Regulatory Commission, 888 First Street, NE., Washington, DC 20426. Please affix Project No. P-516 to all comments. Comments may be filed electronically via the Internet in lieu of paper. See 18 CFR 385.2001(a)(1)(iii) and the instructions on the Commission's Web site under the “e-Filing” link.

For further information, contact John Mudre at (202) 219-1208 or john.mudre@ferc.gov.
Linwood A. Watson, Jr.,
Deputy Secretary.

[FR Doc. 02-16837 Filed 7-3-02; 8:45 am]

BILLING CODE 6717-01-P